DEPARTMENT OF COMMERCE

International Trade Administration

A-570-851

Certain Preserved Mushrooms from the People's Republic of China: Initiation of Antidumping Duty New Shipper Review

AGENCY: Import Administration, International Trade Administration, Department of Commerce.

EFFECTIVE DATE: September 28, 2006.

SUMMARY: The Department of Commerce (the “Department”) has determined that a request for a new shipper review of the antidumping duty order on certain preserved mushrooms from the People's Republic of China (“PRC”), received on August 21, 2006, meets the statutory and regulatory requirements for initiation. The period of review (“POR”) of this new shipper review is February 1, 2006, through July 31, 2006.

FOR FURTHER INFORMATION CONTACT: Matthew Renkey, AD/CVD Operations, Office 9, Import Administration, International Trade Administration, U.S. Department of Commerce, 14th Street and Constitution Avenue, NW., Washington, DC 20230; telephone: (202) 482-2312.

SUPPLEMENTARY INFORMATION:

Background

The notice announcing the antidumping duty order on certain preserved mushrooms from the PRC was published in the Federal Register on February 19, 1999. See Notice of Amendment of Final Determination of Sales at Less Than Fair Value and Antidumping Duty Order: Certain Preserved Mushrooms from the People's Republic of China, 64 FR 8308 (February 19, 1999).¹ On August 31, 2006, pursuant to 19 CFR 351.214(c), the Department received a new shipper review request from Guangxi Jisheng Foods, Inc. (“Jisheng”). Jisheng certified that it is both the producer and exporter of the subject merchandise upon which the request for a new shipper review is based.

¹ Therefore, a request for a new shipper review based on the semiannual anniversary month, August, was due to the Department by the final day of August 2006. See 19 CFR 351.214(d)(2).

Pursuant to section 751(a)(2)(B)(i)(I) of the Tariff Act of 1930 as amended (“the Act”), and 19 CFR 351.214(b)(2)(i), Jisheng certified that it did not export certain preserved mushrooms to the United States during the period of investigation (“POI”). In addition, pursuant to section 751(a)(2)(B)(i)(II) of the Act and 19 CFR 351.214(b)(2)(iii)(A), Jisheng certified that, since the initiation of the investigation, it has never been affiliated with any PRC exporter or producer who exported certain preserved mushrooms to the United States during the POI, including those not individually examined during the investigation. As required by 19 CFR 351.214(b)(2)(iii)(B), Jisheng also certified that its export activities were not controlled by the central government of the PRC.

In addition to the certifications described above, pursuant to 19 CFR 351.214(b)(2)(iv), Jisheng submitted documentation establishing the following: (1) the date on which Jisheng first shipped certain preserved mushrooms for export to the United States and the date on which the certain preserved mushrooms were first entered, or withdrawn from warehouse, for consumption; (2) the volume of its first shipment;² and (3) the date of its first sale to an unaffiliated customer in the United States.

² Jisheng made no subsequent shipments to the United States, which the Department corroborated using data from U.S. Customs and Border Protection (“CBP”).

The Department conducted CBP database queries to confirm that Jisheng's shipment of subject merchandise had entered the United States for consumption and had been suspended for antidumping duties.

Initiation of New Shipper Reviews

Pursuant to section 751(a)(2)(B) of the Act and 19 CFR 351.214(d)(1), the Department finds that Jisheng's request meets the threshold requirements for initiation of a new shipper review for the shipment of certain preserved mushrooms from the PRC it produced and exported. See Memo to the File from Matthew Renkey, Senior Analyst, through Alex Villanueva, Program Manager, Office 9: New Shipper Review Initiation Checklist, dated September 26, 2006.

The POR for this new shipper review is February 1, 2006, through July 31, 2006. See 19 CFR 351.214(g)(1)(i)(B). The Department intends to issue the preliminary results of this review no later than 180 days from the date of initiation, and final results of this review no later than 270 days from the date of initiation. See section 751(a)(2)(B)(iv) of the Act. Interested parties requiring access to proprietary information in this new shipper review should submit applications for disclosure under administrative protective order in accordance with 19 CFR 351.305 and 351.306. This initiation and notice are published in accordance with section 751(a)(2)(B) of the Act and 19 CFR 351.214 and 351.221(c)(1)(i).

Dated: September 22, 2006.
Stephen J. Claeys,
Deputy Assistant Secretary for Import Administration.

[FR Doc. E6-15978 Filed 9-27-06; 8:45 am]

BILLING CODE 3510-DS-S